DEPARTMENT OF ENERGY

Federal Energy Regulatory Commission

Notice of New Docket Prefix “TS”

January 15, 2004.

Notice is hereby given that a new docket prefix—Transmission Standards or “TS” has been established to identify filings and issuances related to Standards of Conduct for Transmission Providers under Order No. 2004. The TS docket prefix must be used for filings relating to the Standards of Conduct under Order No. 2004, including all informational filings, compliance filings and requests for waiver or exemption.

Magalie R. Salas,
Secretary.

[FR Doc. E4-104 Filed 01-23-04; 8:45 am]

BILLING CODE 6717-01-P